DEPARTMENT OF THE INTERIOR

Fish and Wildlife Service

[FWS-R6-ES-2012-N190; FF06E16000-123-FXES11130600000D2]

Endangered and Threatened Wildlife and Plants; Enhancement of Survival Permit Application; Draft Black-Footed Ferret Programmatic Safe Harbor Agreement and Environmental Assessment

AGENCY: Fish and Wildlife Service, Interior.

ACTION: Notice of availability; request for comments.

SUMMARY: We, the U.S. Fish and Wildlife Service, have received an application from the Black-footed Ferret Recovery Implementation Coordinator for an enhancement of survival permit under the Endangered Species Act of 1973, as amended (ESA). The application includes a draft programmatic Safe Harbor Agreement (Agreement) to reintroduce the federally endangered black-footed ferret on properties of voluntary participants across the species' range to further recovery of this species. Pursuant to the ESA and the National Environmental Policy Act, we announce the availability of the draft Agreement and draft environmental assessment (EA) for review and comment by the public and Federal, Tribal, State, and local governments.

DATES: Written comments must be submitted by January 18, 2013.

ADDRESSES: Send written comments by U.S. mail to Kimberly Tamkun, U.S. Fish and Wildlife Service, National Black-footed Ferret Conservation Center, P.O. Box 190, Wellington, CO 80549-0190, or via email to FerretSHA@fws.gov. You also may send comments by facsimile to (970) 897-2732. The draft Agreement and EA are available on the Black-Footed Ferret Recovery Program Web site at http://www.blackfootedferret.org/. You also may review copies of these documents during regular business hours at the National Black-footed Ferret Conservation Center (Ferret Center), 19180 North East Frontage Road Carr, CO 80612-9719. If you do not have access to the Web site or cannot visit our office, you may request copies by telephone at (970) 897-2730 ext. 238 or by letter to the Ferret Center.

FOR FURTHER INFORMATION CONTACT: Pete Gober, Black-footed Ferret Recovery Coordinator, U.S. Fish and Wildlife Service, (970) 897-2730 ext. 224; pete_gober@fws.gov.

SUPPLEMENTARY INFORMATION: Under a Safe Harbor Agreement, participating landowners voluntarily undertake conservation activities on their property to benefit species listed under the ESA (16 U.S.C. 1531 et seq.). Enrolled landowners have the option to return their property to baseline conditions established at the time the Agreement was developed. If the Agreement meets all the permit issuance criteria, we issue an enhancement-of-survival permit under section 10(a)(1)(A) of the ESA. The permit authorizes incidental take of the covered species that may result from implementation of conservation actions, specific land uses, and return to baseline under the Agreement. We also provide enrollees assurances that we will not impose further land, water, or resource-use restrictions or additional commitments of land, water, or finances beyond that agreed to in the Agreement. Application requirements and issuance criteria for enhancement-of-survival permits through Safe Harbor Agreements are found in 50 CFR 17.22 and 17.32.

We are providing this notice under section 10(c) of the ESA and National Environmental Policy Act (NEPA) regulations (40 CFR 1506.6; 43 CFR part 46). We are requesting comments on the proposed Agreement and issuance of enhancement-of-survival permit. We prepared a draft environmental assessment (EA) to comply with NEPA (42 U.S.C. 4321 et seq.), and will evaluate whether the proposed Agreement, issuance of permit, and other alternatives in the draft EA may cause significant impacts to the quality of the human environment. We also invite comments on the draft EA.

The historic range of the black-footed ferret (Mustela nigripes) overlaps with suitable habitat supporting black-tailed, white-tailed, and Gunnison's prairie-dog (their primary prey) in portions of the 12 States of Arizona, Colorado, Kansas, Montana, Nebraska, New Mexico, North Dakota, Oklahoma, South Dakota, Texas, Utah, and Wyoming, as well as Canada and Mexico. The black-footed ferret was twice considered extinct or nearly extinct before all known wild ferrets were captured for captive breeding in 1985. Today, due to reintroduction efforts, 20 populations exist throughout the species' range. However, the Service's 1988 Recovery Plan and 2009 Spotlight Species Action Plan for the ferret advise that more ferret populations be established to move toward recovery.

Therefore, we have developed the proposed Agreement to provide incentives for landowners to volunteer lands with adequate habitat for ferret reintroductions across the historic range of the species within the United States. Under the proposed Agreement, we would issue a permit to the Black-footed Ferret Recovery Implementation Coordinator, who would then enroll willing landowners under certificates of inclusion that would confer incidental take authorization and assurances to the enrollees. Consistent with the Safe Harbor policy (64 FR 32717) and section 7 of the ESA, we would also provide non-enrolled neighboring landowners with incidental take authorization through the section 7 biological opinion and assurances to those neighbors who sign a separate agreement.

To enroll in the Agreement, an eligible landowner would voluntarily work with the Coordinator to develop a site-specific reintroduction plan. Each reintroduction plan would identify a conservation zone on the enrollee's property, consisting of either (a) at least 1,500 acres of habitat occupied by black-tailed prairie dogs (Cynomys ludovicianus) or (b) 3,000 acres occupied by white-tailed prairie dogs (Cynomys leucurus) or Gunnison's prairie dogs (Cynomys gunnisoni). The conservation zone would be targeted for ferret reintroductions. Depending on the needs of the enrollee, a management zone surrounding the conservation zone might also be established. Because grazing is considered compatible with ferret habitat, enrollees may graze their cattle in the both zones throughout the life of the reintroduction plan. If necessary, efforts to control diseases, such as sylvatic plague, will be carried out in both zones. Prairie dog control may also occur within the management zone, as necessary, but not in the conservation zone. Where beneficial, State wildlife agencies, tribes, the U.S. Fish and Wildlife Service, Animal Plant Health Inspection Service—Wildlife Services, the Natural Resources Conservation Service, the U.S. Geological Survey, nongovernmental organizations, and other partners may be party to the reintroduction plan to assist implementation by the enrolled landowner. Each reintroduction plan would have a term of 10 to 40 years within the duration of the Agreement, which is proposed to be 50 years.

Public Availability of Comments

Before including your address, phone number, email address, or other personal identifying information in your comment, you should be aware that your entire comment—including your personal identifying information—may be made publicly available at any time. While you can ask us in your comment to withhold your personal identifying information from public review, we cannot guarantee that we will be able to do so.

Dated: November 29, 2012.
Michael Thabault,
Acting Regional Director—Ecological Services, Mountain-Prairie Region, Denver, Colorado.

[FR Doc. 2012-30470 Filed 12-18-12; 8:45 am]

BILLING CODE 4310-55-P